TRADE REPRESENTATIVE

Notice of Effective Date of Modifications to Certain Textile and Apparel Rules of Origin of the Dominican Republic-Central America-United States Free Trade Agreement

AGENCY: Office of the United States Trade Representative.

ACTION: Notice of Effective Date of Modifications to Certain Textile and Apparel Rules of Origin of the Dominican Republic-Central America-United States Free Trade Agreement (“CAFTA-DR Agreement”).

SUMMARY: Public Law 112-163 modified the rules of origin for certain textile and apparel goods of Parties to the CAFTA-DR Agreement. While these modifications were incorporated into the Harmonized Tariff Schedule of the United States (the “HTS”) through the law, those modifications are not yet in effect. This notice announces that the United States Trade Representative (USTR) has determined that the date on which the equivalent amendments to the rules of origin to the CAFTA-DR have entered into force in all other CAFTA-DR Parties is October 13, 2012, and that the modifications to the HTS pursuant to section 2 of Public Law 112-163 enter into force on that date.

FOR FURTHER INFORMATION CONTACT: For further information, please contact Caroyl Miller, Deputy Textile Negotiator, Office of the United States Trade Representative, 600 17th Street, NW., Washington, DC 20508, email address: caroyl_miller@ustr.eop.gov.

SUPPLEMENTARY INFORMATION: Public Law 109-53, the Dominican Republic-Central America-United States Free Trade Agreement Implementation Act (the “CAFTA-DR Act”) approved the CAFTA-DR Agreement. Presidential Proclamations 7987 of February 28, 2006, 7991 of March 24, 2006, 7996 of March 31, 2006, 8034 of June 30, 2006, 8111 of March 1, 2007, and 8331 of December, 23 2008, implemented the CAFTA-DR Agreement with respect to the United States and, pursuant to the CAFTA-DR Act, incorporated in the HTS the tariff modifications and rules of origin necessary or appropriate to carry out the CAFTA-DR Agreement. On February 23, 2011, the CAFTA-DR Agreement Free Trade Commission adopted a decision to modify certain rules of origin for textile and apparel products set forth in Annex 4.1 of the CAFTA-DR.

Public Law 112-163 enacted these modifications into the HTS, however, they have not entered into force. The law provides that these modifications apply to goods of a CAFTA-DR Party that are entered, or withdrawn from warehouse for consumption, on or after the date that the USTR determines is the first date on which the equivalent amendments to the rules of origin to the CAFTA-DR have entered into force in all other CAFTA-DR Parties. After making this determination, the USTR is to publish notice of such determination in the Federal Register. This notice announces that the USTR has determined that the date on which the equivalent amendments to the rules of origin to the CAFTA-DR have entered into force in all other CAFTA-DR Parties is October 13, 2012, and that the modifications to the HTS pursuant to section 2 of Public Law 112-163 enter into force on that date.

Ron Kirk,
Ambassador, United States Trade Representative.

[FR Doc. 2012-23612 Filed 9-25-12; 8:45 am]

BILLING CODE 3290-F2-P